ENVIRONMENTAL PROTECTION AGENCY

[EPA-HQ-OPP-2014-0009 and EPA-HQ-OPP-2014-0011; FRL-9950-20]

Pesticide Product Registration; Receipt of Applications for New Uses and New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before September 19, 2016.

ADDRESSES: Submit your comments, identified by the docket identification (ID) number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

A. New Active Ingredients (AI)

1. File number: 7969-GIO (Versys Insecticide; Decision No. 516387). Docket number: EPA-HQ-OPP-2016-0416. Company name and address: BASF Corporation, 26 Davis Drive, P.O. Box 13528, Research Triangle Park, NC 27709-3528. Active ingredient: Afidopyropen. Proposed uses: Almond hulls; apple, wet pomace; citrus oil; cotton, gin byproducts; cotton, undelinted seed; fruit, citrus, group 10-10; fruit, pome, group 11-10; fruit, stone, group 12-12; nut, tree, group 14-12; plum, prune; soybean, aspirated fractions; soybean, forage; soybean, hay; soybean, seed; vegetable, Brassica, head and stem group 5-13; vegetable, cucurbit, group 9; vegetable, fruiting, group 8-10; vegetable, leaf petioles, subgroup 22B; vegetable, leafy, subgroup 4-13A; vegetable, leafy, subgroup 4-13B; and vegetable, tuberous and corm, subgroup 1C. Contact: Carmen Rodia (703) 306-0327; email: rodia.carmen@epa.gov.

2. File number: 7969-GON (INSCALIS Technical Insecticide; Decision No. 516381). Docket number: EPA-HQ-OPP-2016-0416. Company name and address: BASF Corporation, 26 Davis Drive, P.O. Box 13528, Research Triangle Park, NC 27709-3528. Active ingredient: Afidopyropen. Proposed uses: Almond hulls; apple, wet pomace; citrus oil; cotton, gin byproducts; cotton, undelinted seed; fruit, citrus, group 10-10; fruit, pome, group 11-10; fruit, stone, group 12-12; nut, tree, group 14-12; plum, prune; soybean, aspirated fractions; soybean, forage; soybean, hay; soybean, seed; vegetable, Brassica, head and stem group 5-13; vegetable, cucurbit, group 9; vegetable, fruiting, group 8-10; vegetable, leaf petioles, subgroup 22B; vegetable, leafy, subgroup 4-13A; vegetable leafy, subgroup 4-13B; and vegetable, tuberous and corm, subgroup 1C. Contact: Carmen Rodia (703) 306-0327; email: rodia.carmen@epa.gov.

3. File number: 7969-GOR (Sefina Insecticide; Decision No. 516382). Docket number: EPA-HQ-OPP-2016-0416. Company name and address: BASF Corporation, 26 Davis Drive, P.O. Box 13528, Research Triangle Park, NC 27709-3528. Active ingredient: Afidopyropen. Proposed uses: Almond hulls; apple, wet pomace; citrus oil; cotton, gin byproducts; cotton, undelinted seed; fruit, citrus, group 10-10; fruit, pome, group 11-10; fruit, stone, group 12-12; nut, tree, group 14-12; plum, prune; soybean, aspirated fractions; soybean, forage; soybean, hay; soybean, seed; vegetable, Brassica, head and stem group 5-13; vegetable, cucurbit, group 9; vegetable, fruiting, group 8-10; vegetable, leaf petioles, subgroup 22B; vegetable, leafy, subgroup 4-13A; vegetable leafy, subgroup 4-13B; and vegetable, tuberous and corm, subgroup 1C. Contact: Carmen Rodia (703) 306-0327; email: rodia.carmen@epa.gov.

4. File number: 7969-GOE (Inveris Insecticide; Decision No. 516384). Docket number: EPA-HQ-OPP-2016-0416. Company name and address: BASF Corporation, 26 Davis Drive, P.O. Box 13528, Research Triangle Park, NC 27709-3528. Active ingredient: Afidopyropen. Proposed uses: Almond hulls; apple, wet pomace; citrus oil; cotton, gin byproducts; cotton, undelinted seed; fruit, citrus, group 10-10; fruit, pome, group 11-10; fruit, stone, group 12-12; nut, tree, group 14-12; plum, prune; soybean, aspirated fractions; soybean, forage; soybean, hay; soybean, seed; vegetable, Brassica, head and stem group 5-13; vegetable, cucurbit, group 9; vegetable, fruiting, group 8-10; vegetable, leaf petioles, subgroup 22B; vegetable, leafy, subgroup 4-13A; vegetable leafy, subgroup 4-13B; and vegetable, tuberous and corm, subgroup 1C. Contact: Carmen Rodia (703) 306-0327; email: rodia.carmen@epa.gov.

5. File number: 7969-GOG (Ventigra Insecticide; Decision No. 516386). Docket number: EPA-HQ-OPP-2016-0416. Company name and address: BASF Corporation, 26 Davis Drive, P.O. Box 13528, Research Triangle Park, NC 27709-3528. Active ingredient: Afidopyropen. Proposed uses: Almond hulls; apple, wet pomace; citrus oil; cotton, gin byproducts; cotton, undelinted seed; fruit, citrus, group 10-10; fruit, pome, group 11-10; fruit, stone, group 12-12; nut, tree, group 14-12; plum, prune; soybean, aspirated fractions; soybean, forage; soybean, hay; soybean, seed; vegetable, Brassica, head and stem group 5-13; vegetable, cucurbit, group 9; vegetable, fruiting, group 8-10; vegetable, leaf petioles, subgroup 22B; vegetable, leafy, subgroup 4-13A; vegetable leafy, subgroup 4-13B; and vegetable, tuberous and corm, subgroup 1C. Contact: Carmen Rodia (703) 306-0327; email: rodia.carmen@epa.gov.

6. File number: 42750-GRR (Hexythiazox 1E; Decision No. 517092). Docket number: EPA-HQ-OPP-2015-0339. Company name and address: Albraugh, LLC, P.O. Box 2127, Valdosta, GA 31604-2127. Active ingredient: Hexythiazox. Proposed uses: Alfalfa (West of the Rockies); beans, dry and succulent (Western United States only); citrus (CA, AZ and TX only); corn, field; corn, sweet (including ears and forage) (Western United States only); cotton (CA, AZ and TX only); Christmas tree, Christmas tree plantations; greenhouse tomatoes; non-bearing tree fruits and nuts, citrus, and vines (field grown and nursery); pepper/eggplant subgroup 8-10B; pome fruit group 11-10; potatoes (OR, WA and ID only); small fruit, vine climbing subgroup, except fuzzy kiwifruit 13-07F; sorghum (Western United States only, including OK and TX); stone fruits group, including plum; timothy (West of the Rockies); and tree nuts group and pistachios. Contact: Carmen Rodia (703) 306-0327; email: rodia.carmen@epa.gov.

7. File number: 42750-GRE (Hexythiazox Technical; Decision No. 517095-2). Docket number: EPA-HQ-OPP-2015-0339. Company name and address: Albraugh, LLC, P.O. Box 2127, Valdosta, GA 31604-2127. Active ingredient: Hexythiazox. Proposed uses: Alfalfa (West of the Rockies); beans, dry and succulent (Western United States only); citrus (CA, AZ and TX only); corn, field; corn, sweet (including ears and forage) (Western United States only); cotton (CA, AZ and TX only); Christmas tree, Christmas tree plantations; greenhouse tomatoes; non-bearing tree fruits and nuts, citrus, and vines (field grown and nursery); pepper/eggplant subgroup 8-10B; pome fruit group 11-10; potatoes (OR, WA, and ID only); small fruit, vine climbing subgroup, except fuzzy kiwifruit 13-07F; sorghum (Western United States only, including OK and TX); stone fruits group, including plum; timothy (West of the Rockies); and tree nuts group and pistachios. Contact: Katelynn King (703) 347-0193; email: king.katelynn@epa.gov.

8. File number: 91234-RO (A103.02; Decision No. 518428). Docket number: EPA-HQ-OPP-2016-0452. Company name and address: Atticus, LLC., c/o Pyxis Regulatory Consulting, Inc., 4110 136th Street, Gig Harbor, WA 98332. Active ingredient: Chlorfenapyr. Proposed uses: Fruiting vegetables and ornamental crops grown in commercial greenhouses. Contact: Carmen Rodi (703) 306-0327; email: rodia.carmen@epa.gov.

B. Addition of New Food Uses on Previously Registered Pesticide Products

1. Registration number: 71512-7 (Technical Flonicamid Insecticide; Decision No. 513683). Docket number: EPA-HQ-OPP-2011-0985. Company name and address: ISK Bioscience Corporation, 7470 Auburn Road, Suite A, Concord, OH 44077. Active ingredient: Flonicamid. Proposed uses: Citrus. Contact: Carmen Rodia (703) 306-0327; email: rodia.carmen@epa.gov.

2. Registration number: 71512-9 (Flonicamid 50WG; Decision No. 513688). Docket number: EPA-HQ-OPP-2011-0985. Company name and address: ISK Bioscience Corporation, 7470 Auburn Road, Suite A, Concord, OH 44077. Active ingredient: Flonicamid. Proposed use: Citrus. Contact: Carmen Rodia (703) 306-0327; email: rodia.carmen@epa.gov.

3. Registration number: 71512-10 (Beleaf 50SG Insecticide; Decision No. 513685). Docket number: EPA-HQ-OPP-2011-0985. Company name and address: ISK Bioscience Corporation, 7470 Auburn Road, Suite A, Concord, OH 44077. Active ingredient: Flonicamid. Proposed use: Citrus. Contact: Carmen Rodia (703) 306-0327; email: rodia.carmen@epa.gov.

4. Registration number: 71512-14 (Flonicamid 50WG for Manufacturing and Repacking Use Only; Decision No. 513684). Docket number: EPA-HQ-OPP-2011-0985. Company name and address: ISK Bioscience Corporation, 7470 Auburn Road, Suite A, Concord, OH 44077. Active ingredient: Flonicamid. Proposed use: Citrus. Contact: Carmen Rodia (703) 306-0327; email: rodia.carmen@epa.gov.

5. Pesticide Petition: 6E8466 (Decision No. 516183). Docket number: EPA-HQ-OPP-2016-0029. Company name and address: Gowan Company, P.O. Box 5569, Yuma, AZ 85366-5569. Active ingredient: Fenazaquin. Proposed use: Import tolerance on tea and pineapple. Contact: Carmen Rodia (703) 306-0327; email: rodia.carmen@epa.gov.

6. Pesticide Petition: 6E8463 (Decision No. 515700). Docket number: EPA-HQ-OPP-2007-0099. Company name and address: Nichino America, Inc., 4550 New Linden Hill Road, Suite 501, Wilmington, DE 19808-2951. Active ingredient: Flubendiamide. Proposed use: Import tolerance on dried tea. Contact: Carmen Rodia (703) 306-0327; email: rodia.carmen@epa.gov.

7. Registration number: 10163-277 (Onager Miticide). Docket number: EPA-HQ-OPP-2015-0038. Company name and address: Gowan Company, P.O. Box 5569, Yuma, AZ 85366-5569. Active ingredient: Hexythiazox. Proposed use: Hops. Contact: Katelynn King (703) 347-0193; email: king.katelynn@epa.gov.

8. Registration number: 10163-337 (Onager EW). Docket number: EPA-HQ-OPP-2015-0038. Company name and address: Gowan Company, P.O. Box 5569, Yuma, AZ 85366-5569. Active ingredient: Hexythiazox. Proposed use: Hops. Contact: Katelynn King (703) 347-0193; email: king.katelynn@epa.gov.

Authority: 7 U.S.C. 136 et seq.

Dated: August 10, 2016.
Michael Goodis, Acting,
Director, Registration Division, Office of Pesticide Programs.

[FR Doc. 2016-19758 Filed 8-17-16; 8:45 am]

BILLING CODE 6560-50-P